LEGAL SERVICES CORPORATION

Sunshine Act Meeting

NOTICE: Schedule change.

DATE AND TIME: The Legal Services Corporation is changing the dates and times of the Governance and Performance Review Committee and the Finance Committee meetings scheduled during the April meeting of its Board of Directors. These meetings were noticed in the Monday, April 11, 2016 issue of the Federal Register, 81 FR 21400. The Finance Committee meeting will be held on Sunday, April 17, 2016, commencing at 3:00 p.m. EDT. The Governance and Performance Review Committee meeting will be held on Monday, April 18, 2016, commencing at 3:15 p.m. EDT. All other information about the meetings remains as stated in the prior notice.

CONTACT PERSON FOR INFORMATION: Katherine Ward, Executive Assistant to the Vice President & General Counsel, at (202) 295-1500. Questions may be sent by electronic mail to FR_NOTICE_QUESTIONS@lsc.gov.

Dated: April 15, 2016.
Stefanie K. Davis,
Assistant General Counsel.

[FR Doc. 2016-09098 Filed 4-15-16; 11:15 am]

BILLING CODE 7050-01-P